ENVIRONMENTAL PROTECTION AGENCY

[FRL-11764-01-OA]

Public Meetings of the Clean Air Scientific Advisory Committee (CASAC) Nitrogen Oxides Panel and the Chartered CASAC

AGENCY: Environmental Protection Agency (EPA).

ACTION: Notice.

SUMMARY: The Environmental Protection Agency (EPA) Science Advisory Board (SAB) Staff Office is announcing two public meetings of the Clean Air Scientific Advisory Committee (CASAC) Nitrogen Oxides (NOX) Panel and the Chartered CASAC. The purpose of the CASAC NOX Panel meeting is to provide consultative advice on the Integrated Review Plan for the Primary National Ambient Air Quality Standards (NAAQS) for NOX, Volume 2. The purpose of the Chartered CASAC meeting is to provide advice on the NAAQS review process.

DATES:

Public meetings: The CASAC NOX Panel will meet on April 16, 2024, from 11 a.m. to 3 p.m. eastern time. The Chartered CASAC will meet on April 25, 2024, from 11 a.m. to 3 p.m. eastern time.

Comments: See the section titled “Procedures for providing public input” under SUPPLEMENTARY INFORMATION for instructions and deadlines.

ADDRESSES: Both meetings will be conducted virtually. Please refer to the CASAC website at https://casac.epa.gov for information on how to attend the meeting.

FOR FURTHER INFORMATION CONTACT: Any member of the public wishing further information concerning this notice may contact Mr. Aaron Yeow, Designated Federal Officer (DFO), via telephone at (202) 564-2050, or email at yeow.aaron@epa.gov. General information about the CASAC, as well as any updates concerning the meetings announced in this document, can be found on the CASAC website at https://casac.epa.gov.

SUPPLEMENTARY INFORMATION:

Background: The CASAC was established pursuant to the Clean Air Act (CAA) Amendments of 1977, codified at 42 U.S.C. 7409(d)(2), to review air quality criteria and NAAQS and recommend to the EPA Administrator any new NAAQS and revisions of existing criteria and NAAQS as may be appropriate. As amended, 5 U.S.C., app. Section 109(d)(1) of the Clean Air Act (CAA) requires that EPA carry out a periodic review and revision, as appropriate, of the air quality criteria and the NAAQS for the six “criteria” air pollutants, including NOX. The CASAC is a Federal Advisory Committee chartered under the Federal Advisory Committee Act (FACA), 5 U.S. Code 10. The CASAC and CASAC NOX panel will comply with the provisions of FACA and all appropriate SAB Staff Office procedural policies. Pursuant to FACA and EPA policy, notice is hereby given that the CASAC NOX Panel will hold a public meeting to provide consultative advice on the IRP Vol. 2, and the Chartered CASAC will provide advice on the NAAQS review process.

Availability of meeting materials: All meeting materials, including the agendas, will be available on the CASAC web page at https://casac.epa.gov.

Procedures for providing public input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the CASAC will have the most impact if it provides specific scientific or technical information or analysis for the CASAC to consider or if it relates to the clarity or accuracy of the technical information. Members of the public wishing to provide comments should follow the instruction below to submit comments.

Oral statements: In general, individuals or groups requesting an oral presentation at the meeting will be limited to five minutes. Each person making an oral statement should consider providing written comments as well as their oral statement so that the points presented orally can be expanded upon in writing. Persons interested in providing oral statements should contact the DFO, in writing (preferably via email) at the contact information noted under FOR FURTHER INFORMATION CONTACT, by April 9, 2024, for the April 16, 2024 meeting, and by April 18, 2024, for the April 25, 2024 meeting, to be placed on the list of registered speakers.

Written statements: Written statements will be accepted throughout the advisory process; however, for timely consideration by CASAC members, statements should be submitted to the DFO by April 9, 2024, for consideration at the April 16, 2024 meeting, and by April 18, 2024, for consideration at the April 25, 2024 meeting. Written statements should be supplied to the DFO at the contact information above via email. Submitters are requested to provide an unsigned version of each document because the SAB Staff Office does not publish documents with signatures on its websites. Members of the public should be aware that their personal contact information if included in any written comments, may be posted to the CASAC website. Copyrighted material will not be posted without the explicit permission of the copyright holder.

Accessibility: For information on access or services for individuals with disabilities, please contact the DFO, at the contact information noted above, preferably at least ten days before the meetings, to give the EPA as much time as possible to process your request.

V. Khanna Johnston,
Deputy Director, Science Advisory Board Staff Office.

[FR Doc. 2024-04648 Filed 3-5-24; 8:45 am]

BILLING CODE 6560-50-P